DEPARTMENT OF TRANSPORTATION

Federal Aviation Administration

14 CFR Part 71

[Docket No. FAA-2017-0855; Airspace Docket No. 17-ANM-17]

Proposed Amendment of Class D and E Airspace and Revocation of Class E Airspace; Pocatello, ID

AGENCY: Federal Aviation Administration (FAA), DOT.

ACTION: Notice of proposed rulemaking (NPRM).

SUMMARY: This action proposes to amend controlled airspace at Pocatello Regional Airport, Pocatello, ID, by amending Class D airspace and Class E airspace designated as a surface area; removing Class E airspace designated as an extension to a Class D or E surface area; and amending Class E airspace extending upward from 700 feet above the surface. Also, this action would update the airport's geographic coordinates for the associated Class D and E airspace areas to reflect the FAA's current aeronautical database. Additionally, reference to the Pocatello VHF Omnidirectional Range/Tactical Air Navigation (VORTAC) would be removed from the Class E airspace extending upward from 700 feet above the surface description. This proposal would enhance the safety and management of instrument flight rules (IFR) operations at the airport.

DATES: Comments must be received on or before February 2, 2018.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2017-0855; Airspace Docket No. 17-ANM-17, at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11A at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW, Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D and Class E airspace at Pocatello Regional Airport, Pocatello, ID, in support of IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2017-0855; Airspace Docket No. 17-ANM-17) and be submitted in triplicate to DOT Docket Operations (see ADDRESSES section for address and phone number).

Persons wishing the FAA to acknowledge receipt of their comments on this notice must submit with those comments a self-addressed, stamped postcard on which the following statement is made: “Comments to Docket No. FAA-2017-0855, Airspace Docket No. 17-ANM-17.” The postcard will be date/time stamped and returned to the commenter.

All communications received on or before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined between 8:00 a.m. and 4:30 p.m., Monday through Friday, except federal holidays, at the Northwest Mountain Regional Office of the Federal Aviation Administration, Air Traffic Organization, Western Service Center, Operations Support Group, 1601 Lind Avenue SW, Renton, WA 98057.

Availability and Summary of Documents Proposed for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Proposal

The FAA is proposing an amendment to Title 14 Code of Federal Regulations (14 CFR) part 71 by:

Amending Class D airspace at Pocatello Regional Airport, Pocatello, ID, by raising the vertical limit to 7,000 feet (from 6,900 feet) and increasing the airspace south of the airport to a 5.6-mile radius (from a 4.5-mile radius) to laterally protect IFR departures as they climb to 700 feet above the surface, due to rising terrain;

Amending Class E surface area airspace to be coincident with the Class D airspace area;

Removing Class E airspace designated as an extension to a Class D or Class E surface area as it contains no arrival aircraft within 1,000 feet of the surface, and is not necessary;

Amending Class E airspace extending upward from 700 feet above the surface to reduce the area southwest of the airport and slightly increase the area south of the airport. This redesign is necessary to ensure sufficient controlled airspace to contain IFR arrival aircraft within 1,500 feet above the surface and IFR departure aircraft until reaching 1,200 feet above the surface. The VORTAC navigation aid noted in the description would be removed, as it no longer defines the boundary of the airspace. In addition, this proposal would establish airspace extending upward from 1,200 feet above the surface at the airport within 15 miles northwest and 5 miles southeast of a line extending from 15 miles southwest of the airport to 43 miles northeast of the airport. This would provide controlled airspace to support aircraft operations under IFR as aircraft transition between the en route and airport environments.

Lastly, this proposal would update the airport's geographic coordinates for the associated Class D and E airspace areas to reflect the FAA's current aeronautical database, and would replace the outdated term “Airport/Facility Directory” with the term “Chart Supplement” in the Class D and Class E surface airspace legal descriptions. These modifications are necessary for the safety and management of IFR operations at the airport.

Class D and Class E airspace designations are published in paragraph 5000, 6002, 6004, and 6005, respectively, of FAA Order 7400.11B, dated August 3, 2017 and effective September 15, 2017, which is incorporated by reference in 14 CFR 71.1. The Class D and Class E airspace designations listed in this document will be published subsequently in the Order.

Regulatory Notices and Analyses

The FAA has determined that this proposed regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM ID D Pocatello, ID [Amended]

Pocatello Regional Airport, ID

(Lat. 42°54′35″ N, long. 112°35′45″ W)

That airspace extending upward from the surface to and including 7,000 feet MSL within a 4.5-mile radius of Pocatello Regional Airport from the airport 195° bearing clockwise to the airport 168° bearing, and within a 5.6-mile radius of the airport from the airport 168° bearing clockwise to the airport 195° bearing. This Class D airspace area is effective during the specific dates and times established in advance by a Notice to Airmen. The effective date and time will thereafter be continuously published in the Chart Supplement.

Paragraph 6002 Class E Airspace Designated as Surface Areas.

* * * * *

ANM ID E2 Pocatello, ID [Amended]

Pocatello Regional Airport, ID

(Lat. 42°54′35″ N, long. 112°35′45″ W)

That airspace within a 4.5-mile radius of Pocatello Regional Airport from the airport 195° bearing clockwise to the airport 168° bearing, and within a 5.6-mile radius of the airport from the airport 168° bearing clockwise to the airport 195° bearing. This Class E airspace area is effective during the specific dates and times established in advance by a Notice to Airmen. The effective date and time will thereafter be continuously published in the Chart Supplement.

Paragraph 6004 Class E Airspace Areas Designated as an Extension to a Class D or Class E Surface Area.

* * * * *

ANM ID E4 Pocatello, ID [Removed]

Paragraph 6005 Class E Airspace Areas Extending Upward From 700 Feet or More Above the Surface of the Earth.

* * * * *

ANM ID E5 Pocatello, ID [Amended]

Pocatello Regional Airport, ID

(Lat. 42°54′35″ N, long. 112°35′45″ W)

That airspace extending upward from 700 feet above the surface within 7.8 miles northwest and 5 miles southeast of the 045° bearing from Pocatello Regional Airport extending to 21 miles northeast of the airport, and within 7.8 miles northwest and 5 miles southeast of the 225° bearing from the airport extending to 10.8 miles southwest of the airport. That airspace extending upward from 1,200 feet above the surface within 15 miles northwest and 5 miles southeast of the 045° bearing from Pocatello Regional Airport extending to 43 miles northeast of the airport, and within 15 miles northwest and 5 miles southeast of the 225° bearing from the airport extending to 15 miles southwest of the airport.

Issued in Seattle, Washington, on December 11, 2017.
Brian J. Johnson,
Acting Group Manager, Operations Support Group, Western Service Center.

[FR Doc. 2017-27208 Filed 12-18-17; 8:45 am]

BILLING CODE 4910-13-P